DEPARTMENT OF ENERGY

Federal Energy Regulatory Commission

[Docket No. CP02-34-000]

Texas Gas Transmission Corporation; Notice of Application

December 7, 2001.

Take notice that on December 4, 2001, Texas Gas Transmission Corporation (Texas Gas), 3800 Frederica Street, Owensboro, Kentucky 42301, filed in Docket No. CP02-34-000, for: (1) an application pursuant to section 7(b) of the Natural Gas Act (NGA) for authorization to abandon, by sale to Stone Energy Corporation (Stone), certain supply lateral facilities and appurtenances, located in the East Cameron and Vermillion areas, offshore Louisiana and (2) a determination by the Commission, that upon approval of the abandonment by sale, Stone's ownership and operation of the subject supply lateral facilities will be exempt from Commission jurisdiction under the NGA, all as more fully set forth in the application which is on file with the Commission and open to public inspection. Copies of this filing are on file with the Commission and are available for public inspection. This filing may be viewed on the Web at http://www.ferc.gov using the “RIMS” link, select “Docket #” from the RIMS Menu and follow the instructions (call (202) 208-2222 for assistance).

Texas Gas states that it has entered into an agreement with Stone whereby Texas Gas will, upon Commission approval, transfer by sale to Stone, certain supply lateral facilities consisting of 6.94 miles of 12-inch diameter pipeline, measurement facilities, and appurtenances located in the East Cameron and Vermillion block areas, offshore Louisiana. Texas Gas declares that pursuant to an agreement dated March 23, 2001 and amended August 9, 2001, Texas Gas and Stone have mutually agreed, that subject to receipt of acceptable regulatory approvals, Texas Gas will sell to Stone all of Texas Gas' rights, title, and interests in the identified supply lateral facilities and appurtenances.

Texas Gas states that the agreement will terminate Texas Gas' interest in the subject facilities upon the date of closing, which will occur after receipt of acceptable regulatory approval. Texas Gas indicates that Stone will pay Texas Gas the sum of $100 for Texas Gas' interest (100%) in the facilities. Texas Gas declares that in recognition of the costs associated with any future retirement of these facilities by Stone, the agreement provides for Texas Gas to pay Stone actual and reasonable costs associated with the retirement up to $125,000.

Texas Gas indicates that the subject facilities are not contiguous to its mainline system, were originally constructed and operated to support its merchant function by connecting supplies in the East Cameron and Vermillion areas to the Tennessee Gas Pipeline Company system for ultimate delivery to Texas Gas' mainline system. Texas Gas asserts that due to the elimination of Texas Gas' merchant function and termination of third party transportation agreements, for delivery of the subject gas supplies to Texas Gas' mainline system, Texas Gas no longer has a firm transportation commitment involving the utilization of these facilities. Texas Gas avers that since these facilities are no longer integral to their role as an open-access transporter, abandonment of these facilities will enable Texas Gas to streamline its transmission operations.

Texas Gas states that abandonment by sale of these supply lateral facilities will not adversely affect any of Texas Gas' customers, since only interruptible service is provided through these facilities and Stone has indicated it will, upon transfer, provide non-jurisdictional service on a non-discriminatory basis.

Any questions regarding this amendment should be directed to David N. Roberts, Manager of Certificates and Tariffs, Texas Gas Transmission Corporation, PO Box 20008, Owensboro, Kentucky 42304, at (270) 688-6712.

There are two ways to become involved in the Commission's review of this project. First, any person wishing to obtain legal status by becoming a party to the proceedings for this project should, on or before December 17, 2001, file with the Federal Energy Regulatory Commission, 888 First Street, NE., Washington, DC 20426, a motion to intervene in accordance with the requirements of the Commission's rules of practice and procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

Linwood A. Watson, Jr.,
Acting Secretary.

[FR Doc. 01-30798 Filed 12-12-01; 8:45 am]

BILLING CODE 6717-01-P